DEPARTMENT OF AGRICULTURE

[Docket No. DA-06-001]

Office of Procurement and Property Management; Notice of Request for Extension and Revision of a Currently Approved Information Collection

AGENCY: Office of the Chief Information Officer, Office of Procurement and Property Management, USDA.

ACTION: Notice and request for comments.

SUMMARY: In accordance with the Paperwork Reduction Act of 1995 (44 U.S.C. Chapter 35), this notice announces the Office of Procurement and Property Management's (OPPM) intention to request an extension for and revision to a currently approved information collection for USDA Personal Identity Verification (PIV) Request for Credential, the USDA Homeland Security Presidential Directive 12 (HSPD-12) program. HSPD-12 establishes a mandatory, Government-wide standard for secure and reliable forms of identification (credentials) issued by the Federal Government to its employees and contractors. The Office of Management and Budget (OMB) mandated that these credentials be issued to all Federal Government employees, contractors, and other applicable individuals who require long-term access to federally controlled facilities and/or information systems. The HSPD-12 compliant program is jointly owned and administered by the Office of the Chief Information Officer (OCIO) and the Office of Procurement and Property Management (OPPM).

DATES: Comments on this notice must be received by April 11, 2006 to be assured of consideration.

FOR FURTHER INFORMATION CONTACT: Contact Martin W. Brumback, Chief, Personnel and Document Security Division, Office of Procurement and Property Management, USDA, Room S310, Mail Stop 9305, South Agriculture Building, 14th Street and Independence Avenue, SW., Washington, DC 20250.

SUPPLEMENTARY INFORMATION:

I. Background

HSPD-12 mandates the creation of a standard for identity proofing and credentialing Federal employees and contractors. Federal Information Processing Standard Publication 201 (FIPS-201) outlines the requirements for implementing processes and technologies consistent with control objectives of HSPD-12. FIPS-201 establishes a standard for a Personal Identity Verification (PIV) system based on secure and reliable forms of identification credentials issued by the Federal Government to its employees and contractors. These credentials are intended to authenticate individuals who require access to federally controlled facilities, information systems, and applications. FIPS 201 addresses requirements for initial identity proofing, infrastructures to support interoperability of identity credentials, and accreditation of organizations and processes issuing PIV credentials.

FIPS 201 outlines two phases to implement an HSPD-12 compliant program. Phase I (PIV I) outlines the registration, identity proofing, and issuance process. Phase II (PIV II) outlines the technical and interoperability requirements of an HSPD-12 compliant system. USDA is currently developing PIV II, scheduled to be implemented by the required date of October 27, 2006.

Title: USDA PIV Request For Credential;

OMB Number: 0505-0022;

Expiration Date of Approval: 4/30/06;

Type of Request: Extension and revision of a currently approved information collection.

Abstract: The HSPD-12 information collection consists of two phases of implementation: Personal Identity Verification phase I (PIV I) and Personal Identity Verification phase II (PIV II). The information requested must be provided by Federal employees, contractors and other applicable individuals when applying for a USDA credential (identification card). This information collection is necessary to comply with the requirements outlined in Homeland Security Presidential Directive (HSPD) 12, and Federal Information Processing Standard (FIPS) 201, Personal Identity Verification (PIV) Phase I. USDA must implement an identity proofing, registration, and issuance process consistent with the requirements outlined in FIPS 201. This information collection form is required as part of USDA's PIV I identity proofing and registration process. For PIV II, implemented before 10/27/06, form AD 1197 will be eliminated and the identity process will be streamlined with the addition of a Web-based HSPD-12 system. Therefore, two estimates of burden are calculated and two process descriptions are included.

Estimate of Burden: Public reporting burden for this collection of information is estimated to average 4.75 hours per response for PIV I, and 4.25 hours for PIV II. The Burden is estimated based on the three prerequisites for PIV Credential issuance as well as the receipt of the PIV Credential itself.

| PIV I (present-10/26/06) | PIV II (after 10/27/06)
Provide identity information and documentation | 1.25 hours | 1.25 hours.
Complete and Submit Background Investigation Forms | 1 hour (paper-based) | .5 hours (electronic).
Photograph and Fingerprint for PIV I | 1.5 hours | N/A.
Biometrics Capture (Facial Image and Fingerprints) for PIV II | N/A | 1.5 hours.
Adjudication Appeals (Applicable to 5% of applicants) | 1 hour | 1 hour.
Receive PIV Credential | None (pickup at work location) | None (pickup at work location).

Respondents: For PIV I, new long term contractors, affiliates, and employees must undergo the information collection process. For PIV II, long term contractors, affiliates, and employees must undergo the information collection process. Existing contractors/employees/affiliates must undergo the process to receive a PIV Credential.

Estimated Annual Number of Respondents: PIV I respondents: 10,000; PIV II respondents: 50,000.

Estimated Number of Responses per Respondent: Each respondent should complete one response.

Estimated Total Annual Burden on Respondents: PIV I: 57,500 hours; PIV II: 212,500 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Martin Brumback. All comments received will be available for public inspection during regular business hours.

All responses to this notice will be summarized and included in the request for OMB approval. All comments will become a matter of public record.

Martin Brumback,
Office of Procurement and Property Management.

[FR Doc. E6-1873 Filed 2-9-06; 8:45 am]

BILLING CODE 3410-98-P